ENVIRONMENTAL PROTECTION AGENCY

[FRL-8241-9]

Science Advisory Board Staff Office; Notification of Two Public Teleconferences of the Science Advisory Board

AGENCY: Environmental Protection Agency.

ACTION: Notice.

SUMMARY: The Environmental Protection Agency (EPA) Science Advisory Board (SAB) Staff Office announces a consultation via two public teleconferences to provide input on the Agency's proposed Risk and Technology Review (RTR) assessment methodology.

DATES: The SAB will hold two public teleconferences on December 7, 2006 and December 19, 2006. Each teleconference will begin at 1 p.m. and end at 5 p.m. (Eastern Time).

Location: Telephone conference call only.

FOR FURTHER INFORMATION CONTACT: Any member of the public wishing to obtain general information concerning this public teleconference or should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the EPA Web site at: http://www.epa.gov/sab.

SUPPLEMENTARY INFORMATION: Pursuant to the Federal Advisory Committee Act, Public Law 92-463, notice is hereby given that the EPA SAB will hold a consultation via public teleconference to provide input on EPA's proposed RTR risk assessment methodology. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: Section 112(f)(2) of the CAA requires EPA to determine, for each section 112(d) source category, if the promulgation of additional standards is required to provide an “ample margin of safety to protect public health”. EPA also has the discretion to impose a more stringent emissions standard to prevent adverse environmental effect if such action is justified in light of costs, energy, safety, and other relevant factors. EPA is proposing a risk assessment methodology aimed at satisfying these obligations in a streamlined and efficient manner.

EPA's Office of Air and Radiation (OAR) has requested that the Science Advisory Board (SAB) review its proposed Risk and Technology Review (RTR) Assessment plan. As a part of the technical basis for rulemaking in the EPA's RTR effort, EPA seeks input on whether its proposed assessment plan (emission data; dispersion and exposure modeling; risk characterization) is adequate to provide the basis for regulatory decisions concerning specific source categories. In sum, EPA is using a new approach to perform an assessment with the goal of characterizing the exposures and risks associated with the emissions of hazardous air pollutants (HAP) from approximately 30 different industrial source categories. These categories have previously been subjected to national emission standards, and the purpose of characterizing their risks now is to determine whether those emission standards (which were based on emission control technologies, work practices and other control measures available at the time they were promulgated) are adequate to protect public health with an adequate margin of safety and prevent adverse environmental effects.

In response to OAR's request, the SAB is convening an Ad Hoc consultative panel comprised of members of the SAB and its committees to provide advice on the proposed plan. The purpose of the first public teleconference is to receive a briefing on the proposed plan and to clarify the charge to the panel. During the second teleconference, the panel will provide input and comments on the proposed assessment plan.

Availability of Materials: The draft agendas and other materials will be posted on the SAB Web site at: http://www.epa.gov/sab prior to each teleconference. For questions and information concerning the Agency's proposed plan, please contact Dr. Dave Guinnup, at (919) 541-5368, or guinnup.dave@epa.gov.

Procedures for Providing Public Input: Interested members of the public may submit relevant written or oral information for the SAB to consider during the public teleconference and/or meeting. Oral Statements: In general, individuals or groups requesting an oral presentation at a public SAB teleconference will be limited to three minutes per speaker, with no more than a total of one-half hour for all speakers. To be placed on the public speaker list, interested parties should contact Dr. Sue Shallal, DFO, in writing (preferably via e-mail), by November 30, 2006 for the first teleconference and by December 12, 2006 for the second teleconference, at the contact information noted above. Written Statements: Written statements should be received in the SAB Staff Office in accordance with the dates mentioned above so that the information may be made available to the SAB for their consideration prior to each teleconference. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the teleconference, to give EPA as much time as possible to process your request.

Dated: November 8, 2006.
Anthony F. Maciorowski,
Associate Director for Science, EPA Science Advisory Board Staff Office.

[FR Doc. E6-19168 Filed 11-13-06; 8:45 am]

BILLING CODE 6560-50-P